DEPARTMENT OF COMMERCE

International Trade Administration

[A-580-914]

Certain Superabsorbent Polymers From the Republic of Korea: Final Determination of Sales at Less Than Fair Value

AGENCY: Enforcement and Compliance, International Trade Administration, Department of Commerce.

SUMMARY: The U.S. Department of Commerce (Commerce) determines that certain superabsorbent polymers (SAP) from the Republic of Korea (Korea) are being, or are likely to be, sold in the United States at less than fair value (LTFV). The period of investigation (POI) is October 1, 2020, through September 30, 2021.

DATES: Applicable October 27, 2022.

FOR FURTHER INFORMATION CONTACT: Charles DeFilippo or Elfi Blum, AD/CVD Operations, Office VII, Enforcement and Compliance, International Trade Administration, U.S. Department of Commerce, 1401 Constitution Avenue NW, Washington, DC 20230; telephone: (202) 482-3979 or (202) 482-0197, respectively.

SUPPLEMENTARY INFORMATION:

Background

On June 7, 2022, Commerce published in the Federal Register its preliminary affirmative determination in the LTFV investigation of SAP from Korea, in which it also postponed the final determination until October 20, 2022.¹ We invited interested parties to comment on the Preliminary Determination. A summary of the events that occurred since Commerce published the Preliminary Determination, as well as a full discussion of the issues raised by parties for this final determination, may be found in the Issues and Decision Memorandum.²

¹ See Certain Superabsorbent Polymers from the Republic of Korea: Preliminary Affirmative Determination of Sales at Less Than Fair Value, Postponement of Final Determination and extension of Provisional Measures, 87 FR 34647 (June 7, 2022) (Preliminary Determination), and accompanying Preliminary Decision Memorandum.

² See Memorandum, “Decision Memorandum for the Final Determination in the Less-Than-Fair-Value Investigation of Certain Superabsorbent Polymers from the Republic of Korea,” dated concurrently with, and hereby adopted by, this notice (Issues and Decision Memorandum).

Scope of the Investigation

The products covered by this investigation are SAP from Korea. For a complete description of the scope of this investigation, see appendix I.

Scope Comments

During the course of this investigation, Commerce received scope comments from interested parties. Commerce issued a Preliminary Scope Decision Memorandum to address these comments.³

³ See Memorandum, “Certain Superabsorbent Polymers from the Republic of Korea: Preliminary Scope Decision,” dated April 29, 2022, (Preliminary Scope Decision Memorandum).

We received comments from interested parties on the Preliminary Scope Decision Memorandum,⁴ which we addressed in a Final Scope Decision Memorandum.⁵ Commerce is not modifying the scope language as it appeared in the correction to the Preliminary Determination. See Appendix I for the final scope of the investigation.

⁴ See LGC's Letter, “Superabsorbent Polymers from the Republic of Korea: LGC's Scope Brief,” dated May 9, 2022; see also Ad Hoc Coalition of American SAP Producers' (Petitioner) Letter, “Certain Superabsorbent Polymers from the Republic of Korea—Petitioner's Scope Rebuttal Brief,” dated May 16, 2022.

⁵ See Memorandum, “Superabsorbent Polymers from the Republic of Korea: Final Scope Decision Memorandum,” dated concurrently with, and hereby adopted by, this notice (Final Scope Memorandum).

Analysis of Comments Received

All issues raised in the case and rebuttal briefs submitted by interested parties in this investigation are addressed in the Issues and Decision Memorandum. A list of the issues addressed in the Issues and Decision Memorandum is attached to this notice as appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Verification

Commerce conducted verification of the information relied upon in making its final determination in this investigation, in accordance with section 782(i) of the Tariff Act of 1930, as amended (the Act). Specifically, Commerce conducted on-site verifications of the home market sales, U.S. sales, and cost of production responses submitted by LG Chem, Ltd. (LGC) and its U.S. affiliate, LG Chem America Inc.

Changes Since the Preliminary Determination

Based on our analysis of the comments received and additional information obtained since the Preliminary Determination, we made certain changes to the margin calculation for this final determination. For a discussion of these changes, see the Issues and Decision Memorandum.

All-Others Rate

Section 735(c)(5)(A) of the Act provides that the estimated weighted-average dumping margin for all other producers and exporters not individually investigated shall be equal to the weighted average of the estimated weighted-average dumping margins established for individually-investigated exporters and producers, excluding rates that are zero, de minimis, or determined entirely under section 776 of the Act, i.e., facts otherwise available.

In this investigation, Commerce calculated an individual estimated weighted-average dumping margin for LGC, the only individually-examined exporter/producer in this investigation. Because the only individually calculated dumping margin is not zero, de minimis, or based entirely on facts otherwise available, the estimated weighted-average dumping margin calculated for LGC is the margin assigned to all other producers and exporters, pursuant to section 735(c)(5)(A) of the Act.

Final Determination

Commerce determines that the following estimated weighted-average dumping margins exist for the period October 1, 2020, through September 30, 2021:

Exporter/producer | Estimated weighted- average dumping margin (percent)
LG Chem, Ltd | 17.64
All Others | 17.64

Disclosure

Commerce intends to disclose its calculations and analysis performed to interested parties in this final determination within five days of any public announcement or, if there is no public announcement, within five days of the date of publication of this notice, in accordance with 19 CFR 351.224(b).

Continuation of Suspension of Liquidation

In accordance with section 735(c)(1)(B) of the Act, Commerce will instruct U.S. Customs and Border Protection (CBP) to continue to suspend liquidation of all entries of subject merchandise, as described in appendix I of this notice, which were entered, or withdrawn from warehouse, for consumption on or after June 7, 2022, the date of publication of the Preliminary Determination in the Federal Register. This suspension of liquidation instructions will remain in effect until further notice.

Pursuant to sections 735(c)(1)(B)(ii) and 735(c)(5)(A) of the Act and 19 CFR 351.210(d), upon the publication of this notice, we will instruct CBP to require a cash deposit for estimated antidumping duties for such entries as follows: (1) the cash deposit rate for the respondent listed in the table above is the company-specific estimated weighted-average dumping margin determined in this final determination; (2) if the exporter is not identified above, but the producer is, then the cash deposit rate will be equal to the company-specific estimated weighted-average dumping margin established for the producer of the subject merchandise; and (3) the cash deposit rate for all other producers and exporters will be the all-others estimated weighted-average dumping margin listed above.

U.S. International Trade Commission Notification

In accordance with section 735(d) of the Act, Commerce will notify the U.S. International Trade Commission (ITC) of its final determination of sales at LTFV. Because the final determination in this investigation is affirmative, in accordance with section 735(b)(2) of the Act, the ITC will make its final determination as to whether the domestic industry in the United States is materially injured, or threatened with material injury, by reason of imports or sales (or the likelihood of sales) for importation of SAP no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination is issued and published in accordance with sections 735(d) and 777(i) of the Act and 19 CFR 351.210(c).

Dated: October 20, 2022.
Lisa W. Wang,
Assistant Secretary for Enforcement and Compliance.

Appendix I

Scope of the Investigation

The merchandise covered by this investigation is superabsorbent polymers (SAP), which is cross-linked sodium polyacrylate most commonly conforming to Chemical Abstracts Service (CAS) registry number 9003-04-7, where at least 90 percent of the dry matter, by weight on a nominal basis, corrected for moisture content, is comprised of a polymer with a chemical formula of (C3H3O2NaxH1-x)n, where x is within a range of 0.00-1.00 and there is no limit to n. The subject merchandise also includes merchandise with a chemical formula of {(C2H3)COONayH(1-y)}n, where y is within a range of 0.00-1.00 and there is no limit to n. The subject merchandise includes SAP which is fully neutralized as well as SAP that is not fully neutralized.

The subject merchandise may also conform to CAS numbers 25549-84-2, 77751-27-0, 9065-11-6, 9033-79-8, 164715-58-6, 445299-36-5, 912842-45-6, 561012-86-0, 561012-85-9, or 9003-01-4.

All forms and sizes of SAP, regardless of packaging type, including but not limited to granules, pellets, powder, fibers, flakes, liquid, or gel are within the scope of this investigation. The scope also includes SAP whether or not it incorporates additives for anticaking, anti-odor, anti-yellowing, or similar functions.

The scope also includes SAP that is combined, commingled, or mixed with other products after final sieving. For such combined products, only the SAP component is covered by the scope of this investigation. SAP that has been combined with other products is included within the scope, regardless of whether the combining occurs in third countries. A combination is excluded from this investigation if the total SAP component of the combination (regardless of the source or sources) comprises less than 50 percent of the combination, on a nominal dry weight basis.

SAP is classified under the Harmonized Tariff Schedule of the United States (HTSUS) subheading 3906.90.5000. SAP may also enter the United States under HTSUS 3906.10.0000. Although the HTSUS subheadings and CAS registry numbers are provided for convenience and customs purposes, the written description of the merchandise is dispositive.

Appendix II

List of Topics Discussed in the Issues and Decision Memorandum

I. Summary

II. Background

III. Scope of the Investigation

IV. Changes from the Preliminary Determination

V. Discussion of the Issues

Comment 1: Model Match and Product Characteristics

Comment 2: Contract Prices for International and U.S. Inland Freight

Comment 3: Affiliated Party U.S. Freight Costs

Comment 4: Foreign Exchange Gains and Losses

Comment 5: Impairment Losses

Comment 6: Depreciation of Non-operating Assets and Inventory Valuation Losses

Comment 7: Constructed Export Price (CEP) Offset

VI. Recommendation

[FR Doc. 2022-23427 Filed 10-26-22; 8:45 am]

BILLING CODE 3510-DS-P